DEPARTMENT OF COMMERCE

Economic Development Administration

National Telecommunications and Information Administration

Bureau of Industry and Security

Membership of the Performance Review Board for EDA, NTIA and BIS

AGENCY: EDA, NTIA and BIS, Department of Commerce.

ACTION: Notice of Membership on the EDA, NTIA and BIS's Performance Review Board.

SUMMARY: The EDA, NTIA and BIS, Department of Commerce (DOC), announce the appointment of those individuals who have been selected to serve as members of the Performance Review Board. The Performance Review Board is responsible for (1) reviewing performance appraisals and ratings of Senior Executive Service (SES) members and Senior Level (SL) members and (2) making recommendations to the appointing authority on other performance management issues, such as pay adjustments, bonuses and Presidential Rank Awards for SES and SL members. The appointment of these members to the Performance Review Board will be for a period of twenty-four (24) months.

DATES: The period of appointment for those individuals selected for EDA, NTIA and BIS's Performance Review Board begins on October 20, 2017.

FOR FURTHER INFORMATION CONTACT: Joan Nagielski, U.S. Department of Commerce, Office of Human Resources Management, Department of Commerce Human Resources Operations Center, Office of Employment and Compensation, 14th and Constitution Avenue NW., Room 50013, Washington, DC 20230, at (202)482-6342.

SUPPLEMENTARY INFORMATION: In accordance with 5 U.S.C. 4314(c)(4), the EDA, NTIA and BIS, Department of Commerce (DOC), announce the appointment of those individuals who have been selected to serve as members of EDA, NTIA and BIS's Performance Review Board. The Performance Review Board is responsible for (1) reviewing performance appraisals and ratings of Senior Executive Service (SES) and Senior Level (SL) members and (2) making recommendations to the appointing authority on other Performance management issues, such as pay adjustments, bonuses and Presidential Rank Awards for SES and SL members. The Appointment of these members to the Performance Review Board will be for a period of twenty-four (24) months.

Dates: The name, position title, and type of appointment of each member of the Performance Review Board are set forth below:

1. Department of Commerce, Bureau of Industry and Security (BIS), Carol Rose, Chief Financial Officer and Director of Administration, Career SES

2. Department of Commerce, National Telecommunications and Information Administration (NTIA), Paige Atkins, Associate Administrator for Spectrum Management, Career SES

3. Department of Commerce, Economic Development Agency (EDA), Gregory Brown, Chief Financial Officer and Chief Administrative Officer, Career SES

4. Department of Commerce, National Telecommunications and Information Administration (NTIA), Frank Freeman, Chief Administrative Officer, First Responder Network Authority, Career SES

5. Department of Commerce, Minority Business Development Agency (MBDA), Christopher Garcia, Deputy Director, Noncareer SES

Dated: October 17, 2017.
Joan M. Nagielski,
Human Resources Specialist, Office of Employment and Compensation, Department of Commerce Human Resources Operations Center, Office of Human Resources Management, Office of the Secretary, Department of Commerce.

[FR Doc. 2017-22792 Filed 10-19-17; 8:45 am]

BILLING CODE 3510-25-P